DEPARTMENT OF COMMERCE

National Oceanic and Atmospheric Administration

[RTID 0648-XC893]

Takes of Marine Mammals Incidental to Specified Activities; Taking Marine Mammals Incidental to U.S. Navy Construction at Portsmouth Naval Shipyard, Kittery, Maine

AGENCY: National Marine Fisheries Service (NMFS), National Oceanic and Atmospheric Administration (NOAA), Commerce.

ACTION: Notice; issuance of renewal incidental harassment authorization (IHA).

SUMMARY: In accordance with the regulations implementing the Marine Mammal Protection Act (MMPA), as amended, notification is hereby given that NMFS has issued a renewal incidental harassment authorization (IHA) to the U.S. Navy (Navy) to incidentally harass marine mammals incidental to construction activities associated with the multifunctional expansion of Dry Dock 1 project at Portsmouth Naval Shipyard in Kittery, Maine.

DATES: This renewal IHA is valid from April 1, 2023 through March 31, 2024.

FOR FURTHER INFORMATION CONTACT: Reny Tyson Moore, Office of Protected Resources, NMFS, (301) 427-8401. Electronic copies of the original application, renewal request, and supporting documents (including NMFS Federal Register notices of the original proposed and final authorizations, and the previous IHA), as well as a list of the references cited in this document, may be obtained online at: https://www.fisheries.noaa.gov/permit/incidental-take-authorizations-under-marine-mammal-protection-act. In case of problems accessing these documents, please call the contact listed above.

SUPPLEMENTARY INFORMATION:

Background

The Marine Mammal Protection Act (MMPA) prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). Monitoring and reporting of such takings are also required. The meaning of key terms such as “take,” “harassment,” and “negligible impact” can be found in section 3 of the MMPA (16 U.S.C. 1362) and the agency's regulations at 50 CFR 216.103.

NMFS' regulations implementing the MMPA at 50 CFR 216.107(e) indicate that IHAs may be renewed for additional periods of time not to exceed 1 year for each reauthorization. In the notice of proposed IHA for the initial authorization, NMFS described the circumstances under which we would consider issuing a renewal for this activity, and requested public comment on a potential renewal under those circumstances. Specifically, on a case-by-case basis, NMFS may issue a one-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA);

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take);

• A preliminary monitoring report showing the results of the required monitoring to date and an explanation showing that the monitoring results do not indicate impacts of a scale or nature not previously analyzed or authorized; and

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: www.fisheries.noaa.gov/national/marine-mammal-protection/incidental-harassment-authorization-renewals.

History of Request

On April 1, 2022, NMFS issued an IHA to the Navy to take marine mammals incidental to construction activities associated with the multifunctional expansion of Dry Dock 1 project (also referred to as P-381) at Portsmouth Naval Shipyard in Kittery, Maine (87 FR 19886, April 6, 2022), effective from April 1, 2022 through March 31, 2022. On January 31, 2023, NMFS received an application for the renewal of that initial IHA. NMFS received a revised application for the renewal IHA on February 24, 2023. As described in the application for renewal IHA, the activities for which incidental take is requested consist of activities that are covered by the initial authorization but will not be completed prior to its expiration. As required, the applicant also provided a preliminary monitoring report which confirms that the applicant has implemented the required mitigation and monitoring, and which also shows that no impacts of a scale or nature not previously analyzed or authorized have occurred as a result of the activities conducted. There are no changes from the proposed authorization in this final authorization.

Description of the Specified Activities and Anticipated Impacts

Multifunctional Expansion of Dry Dock 1 (P-381) is one of three projects that support the overall expansion and modification of Dry Dock 1, located in the western extent of the Portsmouth Naval Shipyard. The two additional projects, construction of a super flood basin (P-310) and extension of portal crane rail and utilities (P-1074), are currently under construction. In-water work associated with these projects was completed under separate IHAs issued by NMFS in 2019 (84 FR 24476, May 28, 2019), and in a renewal of the 2019 IHA (86 FR 14598, March 17, 2021). The projects have been phased to support Navy mission schedules. P-381 will be constructed within the same footprint of the super flood basin over an approximate 7-year period, during which 5 years of in-water work will occur. The initial IHA authorized takes for marine mammals during the first year of in-water construction for P-381 occurring from April 2022 through March 2023. All work beyond year 1 has been addressed in proposed incidental take regulations (88 FR 3146, January 18, 2023).

The purpose of this project, Multifunctional Expansion of Dry Dock 1 (P-381), is to modify the super flood basin to create two additional dry docking positions (Dry Dock 1 North and Dry Dock 1 West) in front of the existing Dry Dock 1 East. The super flood basin provides the starting point for the P-381 work (see Figure 1-2 of the Navy's application for the initial IHA). This renewal will cover a subset of the activities covered in the initial IHA that will not be completed during the effective IHA period due to project delays (see Detailed Description of the Activity for specific activities to be covered in the renewal IHA). This includes the preparation of the walls and floors of the super flood basin to support the placement of the monoliths and the construction of the two dry dock positions.

Construction activities that could affect marine mammals are limited to in-water pile driving and removal activities, rock hammering, rotary drilling, and down-the-hole (DTH) hammering. Under the initial IHA, Level A harassment and Level B harassment was authorized for harbor porpoises (Phocoena phocoena), harbor seals (Phoca vitulina), gray seals (Halichoerus grypus), harp seals (Pagophilus groenlandicus) and hooded seals (Cystophora cristata). Neither the Navy nor NMFS expects serious injury or mortality to result from this activity and, therefore, a renewal IHA is appropriate.

The following documents are referenced in this notification and include important supporting information:

• Initial 2022 Final IHA (87 FR 19886, April 6, 2022);

• Initial 2022 Proposed IHA (87 FR 11860, March 3, 2022);

• Initial IHA application and References;

• Letter of Authorization (LOA) Application Addendum Memo (October 31, 2022); and

• 2023 Proposed renewal IHA (88 FR 15982, March 15, 2023).

All of these referenced documents are available at https://www.fisheries.noaa.gov/action/incidental-take-authorization-us-navy-construction-portsmouth-naval-shipyard-kittery-maine.

Detailed Description of the Activity

A detailed description of the construction activities for which take is authorized here may be found in the Federal Register notices of the proposed (87 FR 11860, March 3, 2022) and final (87 FR 19886, April 6, 2022) IHAs for the initial authorization as well as in the LOA Application Addendum Memo (submitted to NMFS on October 31, 2023), which described project modifications and shifting Fleet submarine schedules. As previously mentioned, this request is for a subset of the activities authorized in the initial IHA that would not be completed prior to its expiration due to project delays. The location, timing, and nature of the activities, including the types of equipment planned for use, are identical to those described in the previous notices. Table 1 describes the status of all activities covered under the initial IHA as well as the amount of activities covered under the renewal IHA. This renewal IHA is effective for a period not exceeding 1 year from the date of expiration of the initial IHA.

Table 1—Status of Pile Driving and Drilling Activities
Activity | Total amount | Activity component | Method | Daily production rate | Number installed under initial IHA | Number remaining to be installed under renewal IHA | Total production days | Number of production days under renewal IHA
Center Wall—Install Foundation Support Piles | 20 drilled shafts ¹ | Install 102-inch diameter outer casing | Rotary Drill | 1 shaft/day; 1 hour/day | 14 | 6 | 20 | 6
|  | Pre-drill 102-inch diameter socket | Rotary Drill | 1 shaft/day; 9 hours/day | 14 | 6 | 20 | 6
|  | Remove 102-inch outer casing | Rotary Drill | 1 casing/day; 15 minutes/casing | 10 | 10 | 20 | 10
|  | Drill 78-inch diameter shaft | Cluster drill DTH | 6.5 days/shaft; 10 hours/day | 2 | 18 | 130 | 117
Center Wall—Install Diving Board Shafts ² | 18 drilled shafts | Install 102-inch diameter outer casing | Rotary Drill | 1 shaft/day; 1 hour/day | 0 | 0 | 18 | 0
|  | Pre-drill 102-inch diameter socket | Rotary Drill | 1 shaft/day; 9 hours/day | 0 | 0 | 18 | 0
|  | Remove 102-inch outer casing | Rotary Drill | 1 casing/day; 15 minutes/casing | 0 | 0 | 18 | 0
|  | Drill 78-inch diameter shaft | Cluster drill DTH | 7.5 days/shaft; 10 hours/day | 0 | 0 | 135 | 0
Center Wall—Access Platform Support ³ | 38 drilled shafts | Install 102-inch diameter outer casing | Rotary Drill | 1 shaft/day; 1 hour/day | 0 | 0 | 38 | 0
|  | Pre-drill 102-inch diameter socket | Rotary Drill | 1 shaft/day; 9 hours/day | 0 | 0 | 38 | 0
|  | Remove 102-inch outer casing | Rotary Drill | 1 casing/day; 15 minutes/casing | 0 | 0 | 38 | 0
|  | Drill 78-inch diameter shaft | Cluster drill DTH | 3.5 days/shaft; 10 hours/day | 0 | 0 | 38 | 0
Center Wall—Temporary Launching Piles | 6 drilled shafts | 42-inch diameter shaft | Mono-hammer DTH | 1 shaft/day; 10 hours/day | 6 | 0 | 6 | 0
Center Wall Tie Downs ³ | Install 36 rock anchors | 9-inch diameter holes | Mono-hammer DTH | 2 holes/day; 5 hours/hole | 0 | 0 | 18 | 0
Center Wall—Access Platform Tie Downs ³ | Install 18 rock anchors | 9-inch diameter holes | Mono-hammer DTH | 2 holes/day; 5 hours/hole | 0 | 0 | 9 | 0
Center Wall—Install Tie-In to Existing West Closure Wall | 16 sheet piles | 28-inch wide Z-shaped sheets | Impact with initial vibratory set | 4 piles/day; 5 minutes and; 300 blows/pile | 0 | 16 | 4 | 4
Berth 11 End Wall—Install Secant Pile Guide Wall | 60 sheet piles | 28-inch wide Z-shaped sheets | Impact with initial vibratory set | 8 piles/day; 5 minutes and; 300 blows/pile | 60 | 0 | 8 | 0
Berth 1—Remove Granite Block Quay Wall ⁴ | 610 cy | Granite block demolition | Hydraulic rock hammering | 2.5 hours/day | 0 | 0 | NA | 0
P-310 West Closure Wall—Remove Closure Wall | 238 sheet piles | 18-inch wide flat-sheets | Vibratory extraction | 4 piles/day; 5 minutes/pile | 0 | 238 | 60 | 60
P-310 West Closure Wall—Mechanical Rock Excavation | 985 cy | Excavate bedrock | Hydraulic rock hammering | 9 hours/day | 0 | 985 | 77 | 77
P-310 West Closure Wall—Mechanical Rock Excavation | Drill 500 relief holes Drill 46 rock borings (50 cy) | 4-6 inch holes 42-inch diameter casing | Mono-hammer DTH Mono-hammer DTH | 25 holes/day; 24 minutes/hole 2 borings/day; 5 hours/boring | 0 46 | 500 0 | 20 ⁵ 24 | 20 0
West Closure wall—Berth 11 Abutment—Install Piles | Drill 28 shafts | 42-inch diameter casing | Mono-hammer DTH | 1 shaft/day; 10 hours/day | 0 | 28 | 28 | 28
Berth 11—Remove Shutter Panels | 112 panels | Demolish shutter panels | Hydraulic rock hammering | 5 hours/day | 92 | 20 | 56 | 10
Berth 11 Face—Mechanical Rock Removal at Basin Floor | 3,500 cy Drill 1,277 relief holes ¹ | Excavate Bedrock 4-6 inch holes | Hydraulic rock hammering Mono-hammer DTH | 12 hours/day 27 holes/day; 22.2 minutes/hole | 700 300 | 2800 977 | 100 48 | 80 37
Berth 11 Face—Mechanical Rock at Abutment | Drill 365 rock borings (1,220 cy) | 42-inch diameter casing | Mono-hammer DTH | 2 borings/day; 5 hours/boring | 0 | 365 | 183 | 183
Dry Dock 1 North Entrance—Drill Tremie Tie Downs | Drill 50 rock anchors ¹ | 9-inch holes | Mono-hammer DTH | 2 holes/day; 2 hours/hole | 0 | 25 | 25 | 25
Dry Dock 1 North Entrance—Install Temporary Cofferdam | Install 48 sheet piles ¹ | 28-inch wide Z-shaped sheets | Impact with initial vibratory set | 8 sheets/day; 5 minutes and 300 blows/pile | 0 | 48 | 6 | 6
Berth 1—Remove Sheet Piles | Remove 12 sheet piles | 25-inch wide; Z-shaped sheets | Hydraulic rock hammering | 6 hours/day | 0 | 12 | 3 | 3
Berth 1 Top of Wall—Demolition For Waler Installation ⁶ | 30 lf | Mechanical concrete demolition | Hydraulic rock hammering | 10 hours/day | NA | NA | NA | NA
Berth 1 Mechanical Rock Removal at Basin Floor ⁷ | 200 cy | Excavate Bedrock | Hydraulic rock hammering | 13 cy/day; 12 hours/day | 0 | 200 | 39 | 39
Removal of Berth 1 Emergency Repair Sheets ⁷ | 108 sheet piles | 25-inch wide Z-shaped sheets | Vibratory extraction | 6 piles/day; 5 minutes/pile | 0 | 108 | 18 | 18
Removal of Berth 1 Emergency Repair Tremie Concrete ⁷ | 500 cy | Mechanical concrete demolition | Hydraulic rock hammering | 4 hours/day | 0 | 500 | 15 | 15
Totals |  |  |  |  | 1,244 | 6,862 | 1,278 | 744
¹ The amount of this activity was adjusted in a memo describing project modifications and shifting Fleet submarine schedules that was submitted to NMFS on October 31, 2022. The memo can be found at https://www.fisheries.noaa.gov/action/incidental-take-authorization-us-navy-construction-portsmouth-naval-shipyard-kittery-maine-0.
² The schedule for this work shifted as described in the aforementioned memo submitted to NMFS on October 31, 2022. This activity is now addressed in the proposed rulemaking/LOA (88 FR 3146, January 18, 2023).
³ These activities are no longer needed.
⁴ This activity is complete; it was performed above the water line. The underwater portion of this activity is addressed in the proposed rulemaking/LOA (88 FR 3146, January 18).
⁵ An additional day was added to account for equipment repositioning.
⁶ This activity is complete; it was performed above the water line.
⁷ This activity was added to the initial IHA in the aforementioned memo submitted to NMFS on October 31, 2022.

Description of Marine Mammals in the Area of Specified Activities

A description of the marine mammals in the area of the activities for which take is authorized here, including information on abundance, status, distribution, and hearing, may be found in the Notice of the proposed IHA for the initial authorization (87 FR 11860, March 3, 2022). NMFS has reviewed the monitoring data from the initial IHA, recent draft Stock Assessment Reports, information on relevant Unusual Mortality Events, and other scientific literature, and determined that neither this nor any other new information affects which species or stocks have the potential to be affected or the pertinent information in the Description of the Marine Mammals in the Area of Specified Activities contained in the supporting documents for the initial IHA.

Potential Effects on Marine Mammals and their Habitat

A description of the potential effects of the specified activity on marine mammals and their habitat for the activities for which the authorization of take is authorized here may be found in the Federal Register notice of the proposed IHA for the initial authorization (87 FR 11860, March 3, 2022). NMFS has reviewed the monitoring data from the initial IHA, recent draft Stock Assessment Reports, information on relevant Unusual Mortality Events, and other scientific literature, and determined that neither this nor any other new information affects our initial analysis of impacts on marine mammals and their habitat.

Estimated Take

A detailed description of the methods and inputs used to estimate take for the specified activity are found in the Federal Register notices of the proposed (87 FR 11860, March 3, 2022) and final (87 FR 19886, April 6, 2022) IHAs for the initial authorization as well as the Federal Register notice of the proposed renewal IHA (88 FR 15982, March 15, 2023). Specifically, the marine mammal density and occurrence data applicable to this authorization remain unchanged from the previously issued IHA. Similarly, the stocks taken and types of take remain unchanged from the previously issued IHA. Since the initial IHA was issued, NMFS updated its recommendations on source pressure levels (SPLs) to use when evaluating DTH systems and reevaluated the data available on rock hammering activities. Updates to recommended SPLs for these activities, however, did not result in any changes to the estimated take as described in the proposed renewal IHA (88 FR 15982, March 15, 2023).

Tables 2, 3, and 4 provide the authorized take by Level A and Level B harassment for harbor porpoises, harbor seals, and grey seals, respectively. Given that a subset of the initially covered activities would be occurring, the number of days of operation, and thus number of takes, has been reduced for each species. Note that the final take numbers differ slightly from those provided in the Navy's request for renewal of the IHA based on rounding errors found in the request. Further, in the initial IHA that was issued, takes by Level B harassment for harbor seals and grey seals were increased to more accurately reflect the number of seal sightings reported in recent monitoring reports. However, this adjustment has not been requested or made for the renewal IHA based on the reduction in the number of construction days. The take calculation for hooded and harp seals remains the same from the initial IHA (see the Federal Register notices of the proposed (87 FR 11860, March 3, 2022) and final (87 FR 19886, April 6, 2022) IHAs for the initial authorization for more information).

Table 2—Authorized Take by Level A and Level B Harassment of Harbor Porpoise by Project Activity for the Renewal IHA
Activity | Total amount | Method | Number of production days under renewal IHA | Density | Level A harassment zone (km²) | Takes by Level A harassment | Level B harassment zone (km²) | Take by Level B harassment
Center Wall—Install Foundation Support Piles | 20 drilled shafts | Rotary Drill Rotary Drill | 6 6 | 0.4 0.4 | 0.00001 0.00025 | 0 0 | 0.41742 0.41742 | 0 0
|  | Rotary Drill | 10 | 0.4 | 0.00000 | 0 | 0.41742 | 0
|  | Cluster drill DTH | 117 | 0.4 | 0.41742 | 2 | 0.41742 | 0
Center Wall—Install Tie-In to Existing West Closure Wall | 16 sheet piles | Initial vibratory set Impact | 4 4 | 0.4 0.4 | 0.00045 0.40341 | 0 0 | 0.41742 0.41742 | 0 0
P-310 West Closure Wall—Remove Closure Wall | 238 sheet piles | Vibratory extraction | 60 | 0.4 | 0.00014 | 0 | 0.41742 | 1
P-310 West Closure Wall—Mechanical Rock Excavation | 985 cy | Hydraulic rock hammering | 77 | 0.4 | 0.41742 | 1 | 0.277858 | 0
P-310 West Closure Wall—Mechanical Rock Excavation | Drill 500 relief holes | Mono-hammer DTH | 20 | 0.4 | 0.04811 | 0 | 0.41742 | 0
West Closure wall—Berth 11 Abutment—Install Piles | Drill 28 shafts | Mono-hammer DTH | 28 | 0.4 | 0.41742 | 0 | 0.41742 | 0
Berth 11—Remove Shutter Panels | 112 panels | Hydraulic rock hammering | 10 | 0.4 | 0.41742 | 0 | 0.277858 | 0
Berth 11 Face—Mechanical Rock Removal at Basin Floor | 3,500 cy | Hydraulic rock hammering | 80 | 0.4 | 0.41742 | 1 | 0.277858 | 0
| Drill 1,277 relief holes | Mono-hammer DTH | 37 | 0.4 | 0.04811 | 0 | 0.41742 | 1
Berth 11 Face—Mechanical Rock at Abutment | Drill 365 rock borings (1,220 cy) | Mono-hammer DTH | 183 | 0.4 | 0.41742 | 3 | 0.41742 | 0
Dry Dock 1 North Entrance—Drill Tremie Tie Downs | Drill 50 rock anchors | Mono-hammer DTH | 25 | 0.4 | 0.03036 | 0 | 0.41742 | 0
Dry Dock 1 North Entrance—Install Temporary Cofferdam | Install 48 sheet piles | Initial vibratory set Impact | 6 6 | 0.4 0.4 | 0.00104 0.41742 | 0 0 | 0.41742 0.41742 | 0 0
Berth 1—Remove Sheet Piles | Remove 12 sheet piles | Hydraulic rock hammering | 3 | 0.4 | 0.41742 | 0 | 0.277858 | 0
Berth 1 Mechanical Rock Removal at Basin Floor | 200 cy | Hydraulic rock hammering | 39 | 0.4 | 0.41742 | 1 | 0.277858 | 0
Removal of Berth 1 Emergency Repair Sheets | 108 sheet piles | Vibratory extraction | 18 | 0.4 | 0.00073 | 0 | 0.41742 | 0
Removal of Berth 1 Emergency Repair Tremie Concrete | 500 cy | Hydraulic rock hammering | 15 | 0.4 | 0.41742 | 0 | 0.277858 | 0
Total Estimated Take |  |  |  |  |  | 10 |  | 2

Table 3—Calculated Take by Level A and Level B Harassment of Harbor Seal by Project Activity for the Proposed Renewal IHA
Activity | Total amount | Method | Number of production days under renewal IHA | Density | Level A harassment zone (km²) | Takes by Level A harassment | Level B harassment zone (km²) | Take by Level B harassment
Center Wall—Install Foundation Support Piles | 20 drilled shafts | Rotary Drill Rotary Drill | 6 6 | 3 3 | 0.00001 0.00009 | 0 0 | 0.41742 0.41742 | 8 8
|  | Rotary Drill | 10 | 3 | 0.00000 | 0 | 0.41742 | 13
|  | Cluster drill DTH | 117 | 3 | 0.41742 | 146 | 0.41742 | 0
Center Wall—Install Tie-In to Existing West Closure Wall | 16 sheet piles | Initial vibratory set Impact | 4 4 | 3 3 | 0.00008 0.20116 | 0 2 | 0.41742 0.41742 | 5 3
P-310 West Closure Wall—Remove Closure Wall | 238 sheet piles | Vibratory extraction | 60 | 3 | 0.00002 | 0 | 0.41742 | 75
P-310 West Closure Wall—Mechanical Rock Excavation | 985 cy | Hydraulic rock hammering | 77 | 3 | 0.41742 | 96 | 0.277858 | 0
P-310 West Closure Wall—Mechanical Rock Excavation | Drill 500 relief holes | Mono-hammer DTH | 20 | 3 | 0.01455 | 1 | 0.41742 | 24
West Closure Wall—Berth 11 Abutment—Install Piles | Drill 28 shafts | Mono-hammer DTH | 28 | 3 | 0.41742 | 35 | 0.41742 | 0
Berth 11—Remove Shutter Panels | 112 panels | Hydraulic rock hammering | 10 | 3 | 0.41742 | 13 | 0.277858 | 0
Berth 11 Face—Mechanical Rock Removal at Basin Floor | 3,500 cy | Hydraulic rock hammering | 80 | 3 | 0.41742 | 100 | 0.277858 | 0
| Drill 1,277 relief holes | Mono-hammer DTH | 37 | 3 | 0.01455 | 2 | 0.41742 | 45
Berth 11 Face—Mechanical Rock at Abutment | Drill 365 rock borings (1,220 cy) | Mono-hammer DTH | 183 | 3 | 0.41742 | 229 | 0.41742 | 0
Dry Dock 1 North Entrance—Drill Tremie Tie Downs | Drill 50 rock anchors | Mono-hammer DTH | 25 | 3 | 0.00903 | 1 | 0.41742 | 31
Dry Dock 1 North Entrance—Install Temporary Cofferdam | Install 48 sheet piles | Initial vibratory set Impact | 6 6 | 3 3 | 0.00104 0.36495 | 8 7 | 0.41742 1.50227 | 0 1
Berth 1—Remove Sheet Piles | Remove 12 sheet piles | Hydraulic rock hammering | 3 | 3 | 0.41742 | 4 | 0.277858 | 0
Berth 1 Mechanical Rock Removal at Basin Floor | 200 cy | Hydraulic rock hammering | 39 | 3 | 0.41742 | 49 | 0.277858 | 0
Removal of Berth 1 Emergency Repair Sheets | 108 sheet piles | Vibratory extraction | 18 | 3 | 0.00014 | 0 | 0.41742 | 23
Removal of Berth 1 Emergency Repair Tremie Concrete | 500 cy | Hydraulic rock hammering | 15 | 3 | 0.41742 | 19 | 0.277858 | 0
Total Estimated Take |  |  |  |  |  | 704 |  | 244

Table 4—Calculated Take by Level A and Level B Harassment of Grey Seal by Project Activity for the Renewal IHA
Activity | Total amount | Method | Number of production days under renewal IHA | Density | Level A harassment zone (km²) | Takes by Level A harassment | Level B harassment zone (km²) | Take by Level B harassment
Center Wall—Install Foundation Support Piles | 20 drilled shafts | Rotary Drill Rotary Drill | 6 6 | 0.02 0.02 | 0.00001 0.00009 | 0 0 | 0.41742 0.41742 | 1 1
|  | Rotary Drill | 10 | 0.02 | 0.00000 | 0 | 0.41742 | 1
|  | Cluster drill DTH | 117 | 0.02 | 0.41742 | 10 | 0.41742 | 0
Center Wall—Install Tie-In to Existing West Closure Wall | 16 sheet piles | Initial vibratory set Impact | 4 4 | 0.02 0.02 | 0.00008 0.20116 | 0 0 | 0.41742 0.41742 | 0 0
P-310 West Closure Wall—Remove Closure Wall | 238 sheet piles | Vibratory extraction | 60 | 0.02 | 0.00002 | 0 | 0.41742 | 5
P-310 West Closure Wall—Mechanical Rock Excavation | 985 cy | Hydraulic rock hammering | 77 | 0.02 | 0.41742 | 6 | 0.277858 | 0
P-310 West Closure Wall—Mechanical Rock Excavation | Drill 500 relief holes | Mono-hammer DTH | 20 | 0.02 | 0.01455 | 0 | 0.41742 | 2
West Closure Wall—Berth 11 Abutment—Install Piles | Drill 28 shafts | Mono-hammer DTH | 28 | 0.02 | 0.41742 | 2 | 0.41742 | 0
Berth 11—Remove Shutter Panels | 112 panels | Hydraulic rock hammering | 10 | 0.02 | 0.41742 | 1 | 0.277858 | 0
Berth 11 Face—Mechanical Rock | 3,500 cy | Hydraulic rock hammering | 80 | 0.02 | 0.41742 | 7 | 0.277858 | 0
Removal at Basin Floor | Drill 1,277 relief holes | Mono-hammer DTH | 37 | 0.02 | 0.01455 | 0 | 0.41742 | 3
Berth 11 Face—Mechanical Rock at Abutment | Drill 365 rock borings (1,220 cy) | Mono-hammer DTH | 183 | 0.02 | 0.41742 | 15 | 0.41742 | 0
Dry Dock 1 North Entrance—Drill Tremie Tie Downs | Drill 50 rock anchors | Mono-hammer DTH | 25 | 0.02 | 0.00903 | 0 | 0.41742 | 2
Dry Dock 1 North Entrance—Install Temporary Cofferdam | Install 48 sheet piles | Initial vibratory set Impact | 6 6 | 0.02 0.02 | 0.00104 0.36495 | 0 0 | 0.41742 0.41742 | 1 0
Berth 1—Remove Sheet Piles | Remove 12 sheet piles | Hydraulic rock hammering | 3 | 0.02 | 0.41742 | 0 | 0.277858 | 0
Berth 1 Mechanical Rock Removal at Basin Floor | 200 cy | Hydraulic rock hammering | 39 | 0.02 | 0.41742 | 3 | 0.277858 | 0
Removal of Berth 1 Emergency Repair Sheets | 108 sheet piles | Vibratory extraction | 18 | 0.02 | 0.00014 | 0 | 0.41742 | 2
Removal of Berth 1 Emergency Repair Tremie Concrete | 500 cy | Hydraulic rock hammering | 15 | 0.02 | 0.41742 | 1 | 0.277858 | 0
Total Estimated Take |  |  |  |  |  | 45 |  | 18

Table 5 summarizes the authorized take for all species described as a percentage of stock abundance.

Table 5—Take Estimates as a Percentage of Stock Abundance
Species | Stock (NEST) | Level A harassment | Level B harassment | Percent of stock
Harbor porpoise | Gulf of Maine/Bay of Fundy (95,543) | 10 | 2 | <0.1
Harbor seal | Western North Atlantic (61,336) | 695 | 240 | <0.1
Gray seal | Western North Atlantic (27,300) | 45 | 18 | <0.1
Hooded seal | Western North Atlantic (593,500) | 0 | 5 | <0.1
Harp seal | Western North Atlantic (7.6 million) | 0 | 5 | <0.1

Description of Mitigation, Monitoring and Reporting Measures

The mitigation, monitoring, and reporting measures included as requirements in the authorization are identical to those included in the FR Notice announcing the issuance of the initial IHA (87 FR 19886, April 6, 2022), and the discussion of the least practicable adverse impact included in that document remains accurate. The same measures are proposed for this renewal and are summarized here:

• The Navy must delay pile driving activities should poor environmental conditions restrict full visibility of the applicable shutdown zones;

• The Navy must ensure that all construction supervisors and crews, the monitoring team, and relevant Navy staff are trained prior to commencing work;

• The Navy must implement a 10 m shutdown zone around construction activities to avoid direct physical interaction with marine mammals;

• The Navy must establish and implement shutdown and monitoring zones for all pile driving activities based on the activity type and marine mammal hearing group (see Table 13 in the FR Notice announcing the issuance of the initial IHA (87 FR 19886, April 6, 2022) for the shutdown and monitoring zones);

• The Navy must implement soft start techniques while impact driving whereby hammer energy is gradually ramped up;

• The Navy must install a bubble curtain across any openings at the entrance of super flood basin to attenuate sound for the sound sources that encompass the entire ROI, which include during DTH excavation (DTH mono-hammer and cluster drill), hydraulic rock hammering, and impact pile driving of sheet piles;

• The Navy must employ at least three protected species observers (PSOs) to monitor the shutdown and monitoring zones;

• The Navy must monitor for the presence of marine mammals 30 minutes prior to the initial pile-driving activity (i.e., pre-start clearance monitoring) through 30 minutes post-completion of pile driving activity. If a marine mammal is observed entering or within the shutdown zones, pile driving will be delayed or halted;

• The Navy will delay or halt pile driving activities upon observation of either a species for which incidental take is not authorized or a species for which incidental take has been authorized but the authorized number of takes has been met, entering or within the harassment zone;

• The Navy will conduct a sound source verification study for rotary drilling, DTH excavation (DTH mono-hammer and cluster drill), and rock hammering activities for any remaining piles required to be monitored following their acoustic monitoring plan as described in the FR Notice announcing the issuance of the initial IHA (87 FR 19886, April 6, 2022);

• The Navy must submit a draft report detailing all monitoring within 90 calendar days of the completion of marine mammal monitoring or 60 days prior to the issuance of any subsequent IHA for this project, whichever comes first;

• The Navy must prepare and submit final report within 30 days following resolution of comments on the draft report from NMFS;

• The Navy must submit all PSO datasheets and/or raw sighting data (in a separate file from the Final Report referenced immediately above); and

• The Navy must report injured or dead marine mammals.

Comments and Responses

A notice of NMFS' proposal to issue a renewal IHA to the Navy was published in the Federal Register on March 15, 2023 (88 FR 15982). That notice either described, or referenced descriptions of, the applicant's activity, the marine mammal species that may be affected by the activity, the anticipated effects on marine mammals and their habitat, estimated amount and manner of take, and proposed mitigation, monitoring and reporting measures. NMFS received two comments that were not relevant to the scope of the proposed action. No other comments were received.

Determinations

The renewal request consists of a subset of activities analyzed through the initial authorization described above. In analyzing the effects of the activities for the initial IHA, NMFS determined that the Navy's activities would have a negligible impact on the affected species or stocks and that authorized take numbers of each species or stock were small relative to the relevant stocks (e.g., less than one-third the abundance of all stocks). Although new SPL information became available for DTH and rock hammering, none of this new information affects NMFS' determinations supporting issuance of the initial IHA. The mitigation measures and monitoring and reporting requirements as described above are identical to the initial IHA.

NMFS has concluded that there is no new information suggesting that our analysis or findings should change from those reached for the initial IHA. Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) the Navy's activities will not have an unmitigable adverse impact on taking for subsistence purposes as no relevant subsistence uses of marine mammals are implicated by this action; and, (5) appropriate monitoring and reporting requirements are included.

National Environmental Policy Act

To comply with the National Environmental Policy Act of 1969 (NEPA; 42 U.S.C. 4321 et seq.) and NOAA Administrative Order (NAO) 216-6A, NMFS must review our proposed action (i.e., the issuance of an IHA renewal) with respect to potential impacts on the human environment.

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has determined that the application of this categorical exclusion remains appropriate for this renewal IHA.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

No incidental take of ESA-listed species is authorized or expected to result from this activity. Therefore, NMFS has determined that formal consultation under section 7 of the ESA is not required for this action.

Renewal

NMFS has issued a renewal IHA to the Navy for the take of marine mammals incidental to construction activities associated with the multifunctional expansion of Dry Dock 1 project at Portsmouth Naval Shipyard in Kittery, Maine, effective through March 31, 2024.

Dated: March 31, 2023.
Kimberly Damon-Randall,
Director, Office of Protected Resources, National Marine Fisheries Service.

[FR Doc. 2023-07164 Filed 4-5-23; 8:45 am]

BILLING CODE 3510-22-P